DEPARTMENT OF HEALTH AND HUMAN SERVICES

Administration for Children and Families

Proposed Information Collection Activity: Adoption and Foster Care Analysis and Reporting System (OMB #0970-0422)

AGENCY: Children's Bureau, Administration for Children and Families, Department of Health and Human Services.

ACTION: Request for public comments.

SUMMARY: The Children's Bureau, the Administration for Children and Families (ACF), in the U.S. Department of Health and Human Services (HHS) is requesting a three-year extension of the data information collection for the Adoption and Foster Care Analysis and Reporting System (AFCARS) that was implemented as part of the AFCARS final rule published in May 2020 (85 FR 28410). There are no proposed changes to the information collection published as the final rule in May 2020.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: State and tribal title IV-E agencies are required to report AFCARS case-level information on all children in foster care and children who have been adopted or placed in a guardianship with title IV-E agency involvement. The data collected will inform policy decisions, program management, and responses to Congressional and Departmental inquiries. Specifically, the data are used for short/long-term budget projections, trend analysis, child and family service reviews, and to target areas for improved technical assistance. The data will provide information on the number of children in foster care, the reasons they enter and exit care, and how to prevent their unnecessary placement in foster care. Specifically, the data include information about children who enter foster care, their entries and exits, placement details, and foster/adoptive parent information. This extension request is unrelated to any potential new regulatory activity that may occur subsequently. This request is for public comment on the burden calculations. It does not seek comment on the data elements that have been through the rulemaking process.

Respondents: Title IV-E State and Tribal Child Welfare Agencies.

Annual Burden Estimates
Instrument | Total number of respondents | Total number of responses per respondent | Average burden hours per response | Total burden hours | Annual burden hours
AFCARS-Recordkeeping | 69 | 3 | 8,358 | 1,730,106 | 576,702
AFCARS-Reporting | 69 | 6 | 17 | 21,114 | 7,038

Estimated Total Annual Burden Hours: 583,740.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 479 of the Social Security Act and 45 CFR 1355.44-45.

John M. Sweet, Jr.,
ACF/OPRE Certifying Officer.

[FR Doc. 2023-05427 Filed 3-16-23; 8:45 am]

BILLING CODE 4184-25-P